DEPARTMENT OF HEALTH AND HUMAN SERVICES

National Institutes of Health

Prospective Grant of Exclusive License: System and Methods for Detecting and Characterizing Macromolecular Interactions in Solution

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of an exclusive license to practice the inventions embodied in PCT (application number pending) filed July 28, 2006 from U.S. provisional application 60/703,814 (E-167-2005/0-US-01), entitled “System and Methods for Detecting and Characterizing Macromolecular Interactions in Solution” (Inventors: Drs. Allen Minton and Arun Attri) to Wyatt Technology Corporation (hereafter Wyatt), having a place of business in Goleta, California. The patent rights in these inventions have been assigned to the United States of America.

DATES: Only written comments and/or application for a license, which are received by the NIH Office of Technology Transfer on or before October 27, 2006 will be considered.

ADDRESSES: Requests for a copy of the patent application, inquiries, comments and other materials relating to the contemplated license should be directed to: Chekesha Clingman, Ph.D., Office of Technology Transfer, National Institutes of Health, 6011 Executive Boulevard, Suite 325, Rockville, MD 20852-3804; e-mail: clingmac@mail.nih.gov; telephone: (301) 435-5018; facsimile: (301) 402-0220.

SUPPLEMENTARY INFORMATION: The present invention relates to systems and methods for sensitive detection and characterization of macromolecular interactions in homogenous or heterogeneous solutions of macromolecules, such as proteins, DNA, RNA, biopolymers, organic and inorganic polymers, macromolecular pharmaceutical compounds and others. The methods employed by this system do not require the need for labeling or chemical modification of any test substance, and it is more rapid than any conventional methods. The system includes a dispenser to dispense a solution containing the macromolecule, and one or more detectors to measure a light scattering and concentration associated with the macromolecule in solution. For instance, the first detector can be a light scattering detector (such as a static light-scattering detector). The second detector (such as a UV-Vis detector) can be added in to measure light absorbance and hence concentration. The detectors can be arranged in parallel, to receive identical flow of solution from the dispenser, so that at any given time point, both detectors collect data on flow of identical concentrations.

The prospective exclusive license will be royalty bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

The field of use may be limited to the development of a system and method for detecting and characterizing macromolecular interactions in solution.

Properly filed competing applications for a license filed in response to this notice will be treated as objections to the contemplated license. Comments and objections submitted in response to this notice will not be made available for public inspection, and, to the extent permitted by law, will not be released under the Freedom of Information Act, 5 U.S.C. 552.

Dated: August 21, 2006.
Steven M. Ferguson,
Director, Division of Technology Development and Transfer, Office of Technology Transfer, National Institutes of Health.

[FR Doc. E6-14190 Filed 8-25-06; 8:45 am]

BILLING CODE 4140-01-P